ENVIRONMENTAL PROTECTION AGENCY

40 CFR Part 52

[MN60-01-7285a; FRL-6604-5]

Approval and Promulgation of Implementation Plans; Minnesota

AGENCY: Environmental Protection Agency (EPA).

ACTION: Direct final rule.

SUMMARY: We are approving a site-specific revision to the Minnesota particulate matter (PM) State Implementation Plan (SIP) for LTV Steel Mining Company (LTV), formerly known as Erie Mining Company, located in St. Louis County, Minnesota. The Minnesota Pollution Control Agency (MPCA) submitted this SIP revision on September 29, 1998 in response to a request from LTV that EPA remove the Stipulation Agreement for Erie Mining Company from the State SIP. The rationale for the approval and other information are provided in this notice.

DATES: This action is effective on July 21, 2000 without further notice, unless EPA receives relevant adverse comments by June 21, 2000. If adverse comments are received, EPA will publish a timely withdrawal of the direct final rule in the Federal Register informing the public that the rule will not take effect.

ADDRESSES: Written comments may be mailed to: Carlton Nash, Chief, Regulation Development Section, Air Programs Branch (AR-18J), United States Environmental Protection Agency, 77 West Jackson Boulevard, Chicago, Illinois 60604. Copies of the documents relevant to this action are available for inspection during normal business hours at the above address. (Please telephone Christos Panos at (312) 353-8328, before visiting the Region 5 office.)

FOR FURTHER INFORMATION CONTACT: Christos Panos, Regulation Development Section, Air Programs Branch (AR-18J), Air and Radiation Division, United States Environmental Protection Agency, Region 5, 77 West Jackson Boulevard, Chicago, Illinois 60604, (312) 353-8328.

SUPPLEMENTARY INFORMATION: This supplementary information section is organized as follows:

A. What Action Is EPA Taking Today?

B. Why Was This SIP Revision Submitted?

C. Why Can We Approve This Request?

D. What Is the Background for This Rulemaking?

A. What Action Is EPA Taking Today?

We are approving MPCA's September 29, 1998 request for a site-specific revision to the Minnesota PM SIP. Specifically, we are approving the removal of the Stipulation Agreement for LTV Steel Mining Company, formerly known as Erie Mining Company, from the State PM SIP.

B. Why Was This SIP Revision Submitted?

The State requested that EPA remove the Stipulation Agreement from the SIP because the Agreement was initially submitted as a SIP to: (a) Provide a variance from state SIP rules for three years; and (b) provide a mechanism to make the 90 percent control efficiency federally enforceable. In its submittal, MPCA concludes that the Stipulation Agreement was satisfied on LTV's part because the source modified their air pollution control equipment to achieve 90 percent control efficiency, tested the furnaces, and submitted opacity data to support a higher opacity limit during the specified time frame. Further, MPCA did not act on the adjusted opacity limit provided for in the Stipulation Agreement by not issuing a facility permit which would have finalized a revised opacity limitation.

C. Why Can We Approve This Request?

At the time of the approval of the Stipulation Agreement, the National Ambient Air Quality Standards (NAAQS) for particulate matter were based on the total suspended particulates (TSP) indicator. On July 1, 1987 EPA replaced TSP as the indicator for the PM ambient standard with a new indicator that includes only those particles with an aerodynamic diameter less than or equal to a nominal 10 micrometers.

We are approving the current SIP submittal as a Direct Final Federal Register notice because removing the Stipulation Agreement from the SIP would pose no threat to continued maintenance of the PM NAAQS in the area. The state rules for particulate and opacity standards, which would become applicable to LTV, are contained in the federally approved PM SIP for Minnesota and are therefore federally enforceable.

Further, although section 193 of the Clean Air Act Amendments of 1990 (November 15, 1990) requires equivalent or greater emission reductions for modifications to control requirements in effect before the date of enactment of the 1990 Amendments, this requirement does not apply in this case because the area is designated attainment for PM and the Stipulation Agreement was not required for a nonattainment area plan. Additional information is available in our November 30, 1999 Technical Support Document (TSD).

D. What Is the Background for This Rulemaking?

On February 20, 1981 the State submitted to EPA a Stipulation Agreement for LTV as a revision to Minnesota's total suspended particulates (TSP) SIP. Emissions from 27 furnaces at LTV, located in St. Louis County, Minnesota, (designated a TSP attainment area), exceeded the State's opacity and particulate matter limitations. Therefore, MPCA and LTV entered into a Stipulation Agreement which would allow LTV to exceed the requirements of the State rules until December 31, 1983.

The Stipulation Agreement required LTV to implement a control strategy which would provide for 90 percent control, 5 percent more than required by the State rules, by December 31, 1983. An opacity limit was also to be developed to reflect 90 percent control. Because LTV was located in a TSP attainment area and the TSP NAAQS would be protected during the period of the agreement, EPA approved the Stipulation Agreement into Minnesota's TSP SIP on November 27, 1981 at 46 FR 57893.

EPA Action

In this rulemaking action, EPA approves the removal of the Stipulation Agreement for LTV Steel Mining Company, formerly known as Erie Mining Company, from the State PM SIP. The EPA is publishing this action without prior proposal because the Agency views this as a noncontroversial amendment and anticipates no adverse comments. However, in the proposed rules section of this Federal Register publication, the EPA is publishing a separate document that will serve as the proposal to approve the State Plan should relevant adverse comments be filed. This rule will be effective July 21, 2000 without further notice unless relevant adverse comments are received by June 21, 2000. If EPA receives such comments, this action will be withdrawn before the effective date by publishing a subsequent document that will withdraw the final action. All public comments received will then be addressed in a subsequent final rule based on the proposed action. The EPA will not institute a second comment period. Any parties interested in commenting on this action should do so at this time. If no such comments are received, the public is advised that this action will be effective July 21, 2000.

Nothing in this action should be construed as permitting or allowing or establishing a precedent for any future implementation plan. Each request for revision to the state implementation plan shall be considered separately in light of specific technical, economic, and environmental factors and in relation to relevant statutory and regulatory requirements.

Administrative Requirements

A. Executive Order 12866

The Office of Management and Budget (OMB) has exempted this regulatory action from Executive Order 12866, entitled “Regulatory Planning and Review.”

B. Executive Order 13045

Protection of Children from Environmental Health Risks and Safety Risks (62 FR 19885, April 23, 1997), applies to any rule that: (1) Is determined to be “economically significant” as defined under Executive Order 12866; and (2) concerns an environmental health or safety risk that EPA has reason to believe may have a disproportionate effect on children. If the regulatory action meets both criteria, the Agency must evaluate the environmental health or safety effects of the planned rule on children, and explain why the planned regulation is preferable to other potentially effective and reasonably feasible alternatives considered by the Agency.

This rule is not subject to Executive Order 13045 because it does not involve decisions intended to mitigate environmental health or safety risks.

C. Executive Order 13084

Under Executive Order 13084, EPA may not issue a regulation that is not required by statute, that significantly affects or uniquely affects the communities of Indian tribal governments, and that imposes substantial direct compliance costs on those communities, unless the Federal government provides the funds necessary to pay the direct compliance costs incurred by the tribal governments, or EPA consults with those governments. If EPA complies by consulting, Executive Order 13084 requires EPA to provide to the Office of Management and Budget, in a separately identified section of the preamble to the rule, a description of the extent of EPA's prior consultation with representatives of affected tribal governments, a summary of the nature of their concerns, and a statement supporting the need to issue the regulation. In addition, Executive Order 13084 requires EPA to develop an effective process permitting elected officials and other representatives of Indian tribal governments “to provide meaningful and timely input in the development of regulatory policies on matters that significantly or uniquely affect their communities.”

Today's rule does not significantly or uniquely affect the communities of Indian tribal governments. This action does not involve or impose any requirements that affect Indian Tribes. Accordingly, the requirements of section 3(b) of Executive Order 13084 do not apply to this rule.

D. Executive Order 13132

Federalism (64 FR 43255, August 10, 1999) revokes and replaces Executive Orders 12612 (Federalism) and 12875 (Enhancing the Intergovernmental Partnership). Executive Order 13132 requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.” Under Executive Order 13132, EPA may not issue a regulation that has federalism implications, that imposes substantial direct compliance costs, and that is not required by statute, unless the Federal government provides the funds necessary to pay the direct compliance costs incurred by State and local governments, or EPA consults with State and local officials early in the process of developing the proposed regulation. EPA also may not issue a regulation that has federalism implications and that preempts State law unless the Agency consults with State and local officials early in the process of developing the proposed regulation.

This rule will not have substantial direct effects on the States, on the relationship between the national government and the States, or on the distribution of power and responsibilities among the various levels of government, as specified in Executive Order 13132, because it merely approves a state rule implementing a federal standard, and does not alter the relationship or the distribution of power and responsibilities established in the Clean Air Act. Thus, the requirements of section 6 of the Executive Order do not apply to this rule.

E. Regulatory Flexibility

The Regulatory Flexibility Act (RFA) generally requires an agency to conduct a regulatory flexibility analysis of any rule subject to notice and comment rulemaking requirements unless the agency certifies that the rule will not have a significant economic impact on a substantial number of small entities. Small entities include small businesses, small not-for-profit enterprises, and small governmental jurisdictions.

This rule will not have a significant impact on a substantial number of small entities because SIP approvals under section 110 and subchapter I, part D of the Clean Air Act do not create any new requirements but simply approve requirements that the State is already imposing. Therefore, because the Federal SIP approval does not create any new requirements, I certify that this action will not have a significant economic impact on a substantial number of small entities. Moreover, due to the nature of the Federal-State relationship under the Clean Air Act, preparation of flexibility analysis would constitute Federal inquiry into the economic reasonableness of state action. The Clean Air Act forbids EPA to base its actions concerning SIPs on such grounds. Union Electric Co., v. U.S. EPA, 427 U.S. 246, 255-66 (1976); 42 U.S.C. 7410(a)(2).

F. Unfunded Mandates

Under sections 202 of the Unfunded Mandates Reform Act of 1995 (“Unfunded Mandates Act”), signed into law on March 22, 1995, EPA must prepare a budgetary impact statement to accompany any proposed or final rule that includes a Federal mandate that may result in estimated costs to State, local, or tribal governments in the aggregate; or to the private sector, of $100 million or more. Under section 205, EPA must select the most cost-effective and least burdensome alternative that achieves the objectives of the rule and is consistent with statutory requirements. Section 203 requires EPA to establish a plan for informing and advising any small governments that may be significantly or uniquely impacted by the rule.

EPA has determined that the approval action promulgated does not include a Federal mandate that may result in estimated costs of $100 million or more to either State, local, or tribal governments in the aggregate, or to the private sector. This Federal action approves pre-existing requirements under State or local law, and imposes no new requirements. Accordingly, no additional costs to State, local, or tribal governments, or to the private sector, result from this action.

G. Submission to Congress and the Comptroller General

The Congressional Review Act, 5 U.S.C. section 801 et seq., as added by the Small Business Regulatory Enforcement Fairness Act of 1996, generally provides that before a rule may take effect, the agency promulgating the rule must submit a rule report, which includes a copy of the rule, to each House of the Congress and to the Comptroller General of the United States. Section 804, however, exempts from section 801 the following types of rules: rules of particular applicability; rules relating to agency management or personnel; and rules of agency organization, procedure, or practice that do not substantially affect the rights or obligations of non-agency parties. 5 U.S.C. section 804(3). EPA is not required to submit a rule report regarding this action under section 801 because this is a rule of particular applicability.

H. National Technology Transfer and Advancement Act

Section 12 of the National Technology Transfer and Advancement Act (NTTAA) of 1995 requires Federal agencies to evaluate existing technical standards when developing a new regulation. To comply with NTTAA, EPA must consider and use “voluntary consensus standards” (VCS) if available and applicable when developing programs and policies unless doing so would be inconsistent with applicable law or otherwise impractical.

The EPA believes that VCS are inapplicable to this action. Today's action does not require the public to perform activities conducive to the use of VCS.

I. Petitions for Judicial Review

Under section 307(b)(1) of the Clean Air Act, petitions for judicial review of this action must be filed in the United States Court of Appeals for the appropriate circuit by July 21, 2000. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Intergovernmental relations, Particulate matter.

Dated: April 27, 2000.
David Ullrich,
Acting Regional Administrator, Region 5.

Title 40 of the Code of Federal Regulations, chapter I, part 52, is amended as follows:

PART 52—APPROVAL AND PROMULGATION OF IMPLEMENTATION PLANS

1. The authority citation for part 52 continues to read as follows:

Authority: 42 U.S.C. 7401 et seq.

2. Section 52.1220 is amended by adding paragraph (c)(53) to read as follows:

§ 52.1220 Identification of plan.

* * * * *

(c) * * *

(53) On September 29, 1998, the State of Minnesota submitted a site-specific revision to the particulate matter (PM) SIP for LTV Steel Mining Company (LTV), formerly known as Erie Mining Company, located in St. Louis County, Minnesota. This SIP revision was submitted in response to a request from LTV that EPA remove the Stipulation Agreement for Erie Mining Company from the State SIP, as was approved by EPA in paragraph (c)(18) of this section. Accordingly the Stipulation Agreement for Erie Mining Company referenced in paragraph (c)(18) of this section is removed from the SIP without replacement.

[FR Doc. 00-12642 Filed 5-19-00; 8:45 am]

BILLING CODE 6560-50-P